DEPARTMENT OF COMMERCE

National Institute of Standards and Technology

Proposed Information Collection; Comment Request; Student Information System (SIS)

AGENCY: National Institute of Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 20, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Kristen Gilbert, Office of Human Resources Management, NIST, 100 Bureau Dr., Mail Stop 1720, Gaithersburg, MD 20899-1080; 301-975-3001; kristen.gilbert@nist.gov.

SUPPLEMENTARY INFORMATION:

I. Abstract

The Student Information System (SIS) is designed to collect on-line applications from students for NIST programs such as the Student Volunteer Program (SVP) and Summer High School Intern Program (SHIP). The purpose of the application is to obtain information needed to evaluate applicant qualifications for potential positions.

The Student Information System is an online application which collects basic biographical information about the student. The application contains four sections. The first section collects personal information to include name, address, phone, email, program selection, work availability, and location preferences. The second section collects work and volunteer experience including start and end date, hours worked, name and address of employer, supervisor's contact information, job description, and job-related skills. The third section collects any special training, knowledge, skill, ability, and/or publications that demonstrate the applicant's skill sets to perform a position. The fourth section collects education information to include current enrollment, name and address of the educational institution, grade point average, and expected date of program completion.

II. Method of Collection

The information is collected via NIST's on-line Student Information System.

III. Data

OMB Control Number: 0693-XXXX.

Form Number(s): None.

Type of Review: New collection.

Affected Public: Individuals or households.

Estimated Number of Respondents: 400.

Estimated Time per Response: 45 minutes.

Estimated Total Annual Burden Hours: 300 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 15, 2015.
Glenna Mickelson,
Management Analyst, Office of the Chief Information Officer.

[FR Doc. 2015-12175 Filed 5-19-15; 8:45 am]

BILLING CODE 3510-13-P